DEPARTMENT OF JUSTICE

Antitrust Division

Notice Pursuant to the National Cooperative Research and Production Act of 1993—the Open Group, L.L.C.

Notice is hereby given that, on March 21, 2014, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, the following members have been added as parties to this venture: 1Plug Corporation, Alameda, CA; Aalto University, School of Science and Technology, Espoo, FINLAND; Acando AS, Trondheim, NORWAY; Accelare, Inc., Randolph, MA, Accenture Limited, San Jose, CA; ACD Consulting Solutions LLC, Houston, TX; acQuire Technology Solutions (Pty) Ltd., Applecross, AUSTRALIA; Act! Consulting GmbH, Braunschweig, GERMANY; AdaCore, New York, NY; AGILECOM, Paris, FRANCE; Ahead Technology Inc., Ottawa, CANADA; AITECH Defense Systems, Inc., Chatsworth, CA; Ajilon (Australia) (Pty) Ltd., Perth, AUSTRALIA; Alfabet AG, Berlin, GERMANY; Alithya Services Conseils, Inc., Quebec, CANADA; Allerton Interworks Compute Automated Systems GmbH, Karlsruhe, GERMANY; Alternatives Technology Co, Riyadh, SAUDI ARABIA; American Express, Phoenix, AZ; Anywhere s.r.o., Prague, CZECH REPUBLIC; Aoyama Gakuin University, Tokyo, JAPAN; Applied Technology Solutions Inc., Bloomfield Hills, MI; Architecture Capability Assurance Strategic Group (ARCA SG), Palo Alto, CA; Architecting the Enterprise, High Wycombe, UNITED KINGDOM; Architecture Centre Ltd., London, UNITED KINGDOM; ArchiXL B.V., Amersfoort, THE NETHERLANDS; ARISMORE, Saint Cloud, FRANCE; Armscor, Pretoria; SOUTH AFRICA; Armstrong Process Group, Inc., Hudson, WI; Asahi Techneion Co., Ltd., Shinjuku-ku, JAPAN; ASE Consulting, Ltd., Lytham, UNITED KINGDOM; ASL BiSL Foundation, Utrecht, THE NETHERLANDS; Astronautics Corporation of America, Milwaukee, WI; AT&T IT Architecture Solutions, Alpharetta, GA; ATD Solution (ATD Learning), Kuala Lumpur, MALAYSIA; Atego Group Limited, Phoenix, AZ; Athr IT Consulting, Riyadh, SAUDI ARABIA; ATK Defense Electronics Systems, Woodland Hills, CA; Atos International SAS, Bezons, FRANCE; Atsec Information Security Corporation, Austin, TX; ATSI S.A., Zabierzow, POLAND; Austen Consultancy Services Ltd., Cambridge, UNITED KINGDOM; Avalex Technologies, Gulf Breeze, FL; Avolution, North Sydney, AUSTRALIA; AXE, Inc., Nakagyo-ku, JAPAN; Axiomatics AB, Stockholm, SWEDEN; Baden-Wuerttemberg Cooperative State University (DHBW), Stuttgart, GERMANY; BAE Systems Applied Intelligence, London, UNITED KINGDOM; BAE Systems Inc., Nashua, NH; BAE Systems, Electronics & Integrated Solutions (E&IS), Wayne, NJ; Baker Hughes, Sugar Land, TX; Banco de Mexico, Mexico City DF, MEXICO; Barco Federal Systems LLC, Duluth, MN; BBN Technologies Corp., St Louis Park, MN; BDNA, Mountain View, CA; BEDROCKmg, Hawthorn, AUSTRALIA; Beijing BDR Information Technology Co, Ltd., Beijing, PEOPLE'S REPUBLIC OF CHINA; Beijing Richfit Information Technology Co. Ltd., Beijing, PEOPLE'S REPUBLIC OF CHINA; Beijing Thunisoft Information Technology Limited Corporation, Beijing, PEOPLE'S REPUBLIC OF CHINA; Beijing ZhongPei WeiYe Management Consulting Co., Ltd. (ZPEDU), Beijing, PEOPLE'S REPUBLIC OF CHINA; Bell Helicopter Textron Inc., Fort Worth, TX; Biner Consulting, Gothenburg, SWEDEN; BIZZdesign Holding, Enschede, THE NETHERLANDS; BMT Hi-Q Sigma Ltd., Bath, UNITED KINGDOM; BOC Information Technologies Consulting AG, Dublin, IRELAND; Booz Allen Hamilton, Linthicum, MD; Boston University, Boston, MA; BP Oil International Limited, Poplar, UNITED KINGDOM; Bremer Institut far Produktion und Logistik GmbH (BIBA), Bremen, GERMANY; Brockwell Technologies, Inc., Huntsville, AL; BSI SA, Bioggio, SWITZERLAND; Build The Vision Inc., Ottawa, CANADA; Business Connexion, Gauteng, SOUTH AFRICA; CA, Inc., Cedar Valley, CANADA; CAE Mining, Rivonia, SOUTH AFRICA; CALCULEX Inc., Las Cruces, NM; Capgemini S.A., Utrecht, THE NETHERLANDS; Cardiff University School of Computer Science, Cardiff, UNITED KINGDOM; Carnegie Mellon University, Software Engineering Institute, Pittsburgh, PA; Casewise Systems Ltd., Stamford, CT; CC and C Solutions, Wahroonga, AUSTRALIA; Celestial Consulting Limited, Kent, UNITED KINGDOM; Center for Enterprise Architecture, University Park, PA; Centre for Software Reliability, City University, London, UNITED KINGDOM; Center of Excellence for Enterprise Architecture (CEISAR), Paris, FRANCE; CERTON Software, Inc., Cambridge, MA; Chem National Chemical Corporation, Beijing, PEOPLE'S REPUBLIC OF CHINA; Chengdu GKHB Information Technology Co., Ltd., Chengdu, PEOPLE'S REPUBLIC OF CHINA; Chesapeake Technology International Corp., California, MD; Chevron, San Ramon, CA; Chinese Culture University, Taipei, TAIWAN; Cisco Systems, Inc., San Jose, CA; CLARS Limited, Clacton-on-Sea, UNITED KINGDOM; CM Innovation Ltd., Swindon, UNITED KINGDOM; CMC Electronics Aurora Inc., Sugar Grove, IL; Cobham Aerospace Communications, Prescott, AZ; Cognizant Technology Solutions US Corporation, Broadway, NJ; Coherent Technical Services Inc. (CTSI), Lexington Park, MD; Colorado Technical University, Sioux Falls, SD; Combitech AS, Lysaker, NORWAY; Commerzbank AG, London, UNITED KINGDOM; Computaris International Limited, Warsaw, POLAND; Conexiam Solutions Inc., Coxsackle, NY; Cordial Business Advisers AB, Stockholm, SWEDEN; Core Avionics & Industrial Inc., Tampa, FL; Corso Ltd., Leamington Spa, UNITED KINGDOM; Costco Wholesale, Issaquah, WA; CPP Investment Board, Toronto, CANADA; CS Interactive Training CC, Moreleta Plaza, SOUTH AFRICA; CSC, Waltham, MA; Cubic Defense Applications, San Diego, CA; Curtiss-Wright Controls Defense Solutions, Santa Clarita, CA; CXOWARE, Inc., Spokane, WA; Cynergy Professional Systems LLC, Santa Ana, CA; Dansk Unix-system brugergruppe (DKUUG), Copenhagen, DENMARK; DARYUS Consulting & Education Center, Sao Paulo, BRAZIL; Data Security Council of INDIA, New Delhi, INDIA; DDC-I, Inc., Phoenix, AZ; Deccan Global Solutions LLC, Cumming, GA; Dell, Inc., Round Rock, TX; Deloitte Consulting, LLP, Atlanta, GA; Department of Navy, Patuxent River, MD; Deputy Under Secretary of Defense for Acquisition and Technology (DUSD (A&T)), Arlington, VA; Detecon International GmbH, Eschborn, GERMANY; Devoteam Consulting A/S, Copenhagen, DENMARK; Digileaf Inc., Makati City, PHILIPPINES; Digitaliseringsstyrelsen (Danish Agency for Digitization), Copenhagen, DENMARK; Dirogsa, Lima, PERU; DMTF Distributed Management Task Force, San Jose, CA; DornerWorks, Ltd., Grand Rapids, MO; Dovel Technologies, Inc., McLean, VA; Drovecrest Ltd., Hedgerley, UNITED KINGDOM; Dux Diligens S.A. de C.V., Mexico City DF, MEXICO; EA Dynamics United Kingdom Ltd., Pontyclun, UNITED KINGDOM; EA Fellows ApS, Dragor DENMARK; EA Principals, Inc., Alexandria, VA; Edutech Enterprises, Singapore, SINGAPORE; Edynamic, Inc. d/b/a TONEX, Dallas, TX; Eflow Inc., Shibuya-ku, JAPAN; Elbit Systems of America, Fort Worth, TX; Electronic Warfare Associates-Canada Ltd., Ottawa, CANADA; Elparazim, Aurora, TX; Massachusetts Institute of Technology, Cambridge, MA; EMC Corporation, San Antonio, TX; Enea Software & Services, Inc., Tempe, AZ; Energistics, Sugar Land, TX; ENSCO Avionics, Inc., Falls Church, VA; Enterprise Architects (Pty) Ltd., Melbourne, AUSTRALIA; Enterprise Architecture Consulting Ltd., Oxford, UNITED KINGDOM; Enterprise Architecture Solutions Ltd., London, UNITED KINGDOM; EOH Mthombo (Pty) Ltd. t/a Wonderware, Bedfordview, SOUTH AFRICA; EPFL/LICP, Lanne, SWITZERLAND; Equinox IT, Wellington, NEW ZEALAND; Ericsson AB, Stockholm, SWEDEN; Ernst & Young, London, UNITED KINGDOM; Eskom Holdings, Johannesburg, SOUTH AFRICA; Essentive LLC, Wilmington, DE; Esterel Technologies, Inc., Mountain View, CA; Estrat TI S.A. de C.V., Mexico City, MEXICO; ETUS, Brussels, BELGIUM; European Aeronautics Defense and Space Company, Cedex, FRANCE; EXELIS, Inc., Clifton, NJ; Faculty Training Institute, Cape Town, SOUTH AFRICA; Fairchild Controls Corporation, Frederick, MD; FEAC Institute, Monument, CO; Firstrand Bank Limited, Sandton, SOUTH AFRICA; Focus on the Family, Colorado Springs, CO; Forefront Consulting Group, Stockholm, SWEDEN; Fortescue Metals Group, East Perth, AUSTRALIA; Galois, Inc., Portland, OR; GE Aviation Systems LLC, Grand Rapids, MO; GE Intelligent Platforms, Huntsville, AL; General Atomics Aeronautical Systems, Inc., Poway, CA; General Dynamics Advanced Information Systems, Scottsdale, AZ; Georgia Institute of Technology, Atlanta, GA; Glenfis AG, Zurich, SWITZERLAND; Global Knowledge Network France, Cedex, FRANCE; Global Knowledge Network Training Ltd., Wokingham, UNITED KINGDOM; Gnosis IT Knowledge Solutions, Sao Paulo, BRAZIL; Gobuchi, Dubai, UNITED ARAB EMIRATES; Good e-Learning, London, UNITED KINGDOM; Government of New Brunswick, Fredericton, CANADA; Grant MacEwan College, Edmonton, CANADA; Green Hills Software, Columbia, MD; Harris Corporation, Melbourne, FL; Helse Sør-Øst RHF, Hamar, NORWAY; Henri Tudor Public Research Centre, Luxembourg-Kirchberg, LUXEMBOURG; Holonix Srl, Milan, ITALY; Honeywell, Tucson, AZ; Hoople Limited, Hereford, UNITED KINGDOM; Hotel Technology Next Generation, Shaumburg, IL; Howell Instruments, Inc., Fort Worth, TX; Huawei Technologies, Co. Ltd., Washington, DC; IB Solutions Inc., Calgary, CANADA; iCMG Private Limited, Bangalore, INDIA; Indiasoft Corporation, Hapur, INDIA; Indra Colombia, Bogota, COLOMBIA; Information-technology Promotion Agency Japan, Tokyo, JAPAN; Infosys Limited, Plano, TX; Infovide-Matrix SA, Warsaw, POLAND; Infrastructure Solutions Nordic A/s, Copenhagen, DENMARK; INOVA Europe, Inc., Dallas, TX; Inspearit B.V., Bilthoven, THE NETHERLANDS; Inspired, Cape Town, SOUTH AFRICA; Institute for Development and Research in Banking Technology, Hyderabad, INDIA; IRM UNITED KINGDOM Strategic IT Training, Pinner, UNITED KINGDOM; ISM3 Consortium, Madrid, SPAIN; IT Management Group, The Hague, THE NETHERLANDS; Itera-IT Institute Iberoamerica, Los Morales Polanco, MEXICO; ITpreneurs Nederland B.V., Rotterdam, THE NETHERLANDS; ITRI College, Chutung, TAIWAN; Japan Aerospace Exploration Agency (JAXA), Tsukuba, JAPAN; Jodayn Consulting, Riyadh, SAUDI ARABIA; Johns Hopkins University Applied Physics Laboratory, Laurel, MD; Journey One (Pty) Ltd., Perth, AUSTRALIA; JPrakash Consulting, Chennai, INDIA; Juniper Networks, Inc., Herndon, VA; Kaman Precision Products, Middletown, CT; Kamehameha Schools-Trustees of the Estate of Bernice Pauahi Bishop, Honolulu, HI; Keio University, Kanagawa, JAPAN; Ki Ho Military Acquisition Consulting, Inc., Layton, UT; Kirk Hansen Consulting Inc., Toronto, CANADA; Knotion Consulting (Pty) Ltd., Johannesburg, SOUTH AFRICA; Korea Software Technology Association, Gyeonggi-Do, REPUBLIC OF KOREA; KPN Corporate Market B.V., Amsterdam, THE NETHERLANDS; KPMG LLP, London, UNITED KINGDOM; Kutta Technologies, Inc., Phoenix, AZ; Kwezi Software Solutions (Pty) Ltd., Woodmead, SOUTH AFRICA; Kyoto University, Kyoto, JAPAN; L-3 Communications Systems—West, Salt Lake City, UT; LDRA Technology, Atlanta, GA; Litmus Group (Pty) Ltd., Sydney, AUSTRALIA; Lockheed Martin Corporation, Orlando, FL; Lonmin Platinum, Mooinooi, SOUTH AFRICA; LoQutus NV, Sint-Martens-Latem, BELGIUM; LRDC Systems LLC, Alexandria, VA; LynuxWorks, Inc., San Jose, CA; Marathon Oil Corporation, Houston, TX; Mariner Partners Inc., Saint John, CANADA; Marriott International, Bethesda, MD; Martin-McDougall Technologies (Pty) Ltd., New South Wales, AUSTRALIA; MEGA International S.A., Paris, FRANCE; Mercury Systems Inc., Chelmsford, MA; Metaplexity Associates LLC, Bloomington, MN; MID GmbH, Nuremberg, GERMANY; Midea China, Guangzhou, CHINA; MineRP, Centurion, SOUTH AFRICA; MIT Kerberos Consortium, Cambridge, MA; Mizuho Information and Research Institute, Inc., Chiba, JAPAN; Mobile Reasoning, Inc., Lenexa, KS; MooD International Software, York, UNITED KINGDOM; Motorola Solutions Inc., Schaumburg, IL; Nagoya University, Nagoya, JAPAN; Nanfang Media Group, Guangzhou, PEOPLE'S REPUBLIC OF CHINA; NASA Solutions for Enterprise-Wide Procurement, Lanham, MD; National University of Singapore ISS, Singapore, SINGAPORE; Nationwide Mutual Insurance Company, Inc., Columbus, OH; Naval Air Systems Command, Patuxent River, MD; Nedbank, Sandton, SOUTH AFRICA; Net Security Training Ltd., Wembley, UNITED KINGDOM; Netmind, Barcelona, SPAIN; Network Centric Operations Industry Consortium, Newport Beach, CA; Nissan Motor Co., Ltd., Atsugi, JAPAN; Northern Technologies Group, Inc., Tampa, FL; Northrop Grumman Corporation, Falls Church, VA; Norwegian University of Science and Technology, Trondheim, NORWAY; Novay, Enschede, THE NETHERLANDS; nVision IT (Pty) Ltd., Sandton, SOUTH AFRICA; Obeo, Carquefou, FRANCE; Ohio University, Athens, OH; Online Business Systems, Winnepeg, CANADA; Open GIS Consortium, Inc., Bloomington, IN; OptiPrise, Apeldoorn, THE NETHERLANDS; Orbus Software, London, UNITED KINGDOM; Ovations Technologies (Pty) Ltd., Bryanston, SOUTH AFRICA; Oxford Brookes University, Oxford, UNITED KINGDOM; PA Consulting Group, London, UNITED KINGDOM; Panamerica Computers, Inc., dba PCI Tec, Luray, VA; Perennial, Inc., San Jose, CA; Physical Optics Corporation, Torrance, CA; Presagis, Richardson, TX; PreterLex Limited, Cambridge, UNITED KINGDOM; PricewaterhouseCoopers LLP, Gauteng, SOUTH AFRICA; Promise Innovation International Oy, Siunitio, FINLAND; Promity sp. z.o.o., Warsaw, POLAND; Proya Profesyonel Yazilim Cozumleri ve Danismanlik Ltd., Ankara, TURKEY; QA Limited, Slough, UNITED KINGDOM; QinetiQ North America Inc., Stafford, VA; QPR Software Plc., Helsinki, FINLAND; QR Systems Inc., Woodbridge, CANADA; Qtel International Doha, QATAR, QualiWare ApS, Farum, DENMARK; Qualys Inc., Redwood City, CA; Raymond James, St. Petersburg, FL; Raytheon Company, Waltham, MA; Real IRM Solutions (Pty) Ltd., Midrand, SOUTH AFRICA; Real-Time Innovations, Inc., Sunnyvale, CA; Red Hat, Inc., Mountain View, CA; Reply Limited, London, UNITED KINGDOM; Research Environment for Global Information Society (ReGIS), Tokyo, JAPAN; Richland Technologies LLC, Lawrenceville, GA; Rio Tinto, London, UNITED KINGDOM; Rockwell Collins, Cedar Rapids, IA; Royal Philips N.V., Eindhoven, THE NETHERLANDS; SAP, Newton Square, PA; Scape Consulting GmbH, Frankfurt, GERMANY; Science Application International Corporation, Columbia, MD; Seccuris Inc., Winnipeg, CANADA; Shanghai Information Training Center, Shanghai, PEOPLE'S REPUBLIC OF CHINA; Shanghai NorthUniverse Enterprise Management Consulting Co., Ltd., Shanghai, PEOPLE'S REPUBLIC OF CHINA; Shell Information Technology International B.V., Zabierzow, POLAND; Shenzhen Comtop Information Technology Co., Ltd., Shenzhen, PEOPLE'S REPUBLIC OF CHINA; Shift Technologies LLC, Dubai, UNITED ARAB EMIRATES; Sigma AB, Gothenburg, SWEDEN; Sikorsky Aircraft Corporation, Stratford, CT; Sinag Software Solutions, Antipolo, PHILIPPINES; SIOS Technology, Inc., Tokyo, JAPAN; Smart421 Ltd., Ipswich, UNITED KINGDOM; SMME, Leuven, BELGIUM; SNA Technologies Inc., Livonia, MO; Softeam, Paris, FRANCE; Solvera Solutions, Regina, CANADA; Sony Computer Science Laboratories, Tokyo, JAPAN; Sopra Group, Edinburgh, UNITED KINGDOM; South African Reserve Bank, Pretoria, SOUTH AFRICA; Sparx Systems (Pty) Ltd., Creswick, AUSTRALIA; Spatial Dimension, Pinelands, SOUTH AFRICA; St Mary's University College, London, UNITED KINGDOM; Standard Insurance Company, Portland, OR; State Information Technology Agency SOC Ltd., Pretoria, SOUTH AFRICA; State Key Laboratory of Software Engineering (Wuhan University), Wuhan, CHINA; Stauder Technologies, St. Peters, MO; Steria Limited, Hemel Hempstead, UNITED KINGDOM; Stichting Application Services Library and Business Information Services Library Foundation (ASL BiSL Foundation), Amsterdam, THE NETHERLANDS; Strategic Communications, Louisville, KY; Stretch AB, Stockholm, SWEDEN; Support Systems Associates, Inc., Melbourne, FL; Symetrics Industries, Melbourne, FL; Symphony Ltd., Setagaya-ku, JAPAN; Synthetic Spheres Ltd., Solihull, UNITED KINGDOM; SYRACOM Consulting AG, Wiesbaden, GERMANY; SYSGO, Klein-Winternheim, GERMANY; Systems Flow, Inc., Rhinebeck, NY; SYTECSO S.A. DE C.V, Monterrey, MEXICO; tang-IT Consulting GmbH, Wiesbaden, GERMANY; Tata Consultancy Services, Mumbai, INDIA; Teamcall Limited, Brussels, BELGIUM; TeleManagement Forum, Woodbridge, UNITED KINGDOM; Telkom SA Ltd., Pretoria, SOUTH AFRICA; Textron Systems Corporation, Hunt Valley, MD; The Boeing Company, Seattle, WA; The Dragonl Software Company, Bennekom, NETHERLANDS; The Federal Authorities of the Swiss Confederation, Bern, SWITZERLAND; The Knowledge Academy, Windsor, UNITED KINGDOM; The Mario Group, Southgate, AUSTRALIA; The Unit B.V., Vleuten, THE NETHERLANDS; The University of Reading, Reading, UNITED KINGDOM; Thomas Production Company L.L.C., Potomac Falls, VA; Tieto EA Consulting, Laskutus, FINLAND; Tieturi OY, Helsinki, FINLAND; Time-Critical Technologies, Natick, MA; Transformation By Design Business Consulting Inc., Toronto, CANADA; Treasury Board of Canada (EASD-CIOB), Ottawa, CANADA; Tresys Technology LLC, Columbia, MD; TRM Technologies Inc., Ottawa, CANADA; Troux Technologies, Austin, TX; Trung Tam Chinh Phu Dien Tu—Cuc Tin Hoc Ho A, Ha Noi, VIETNAM; Trusted Systems Consulting Group, Cupertino, CA; TTTech North America Inc., Andover, MA; Tucson Embedded Systems, Tucson, AZ; U.S. Department of Defense OASD, Washington, DC; UDEF-IT, L.L.C., New Smyrna Beach, FL; Universidad de Cantabria, Santander, SPAIN; Universite Laval CeRTAE, Quebec, CANADA; University of Colorado, Boulder, CO; University of Denver, Alexandria, VA; University of Idaho, Center for Secure and Dependable Systems, Davis, CA; University of Johannesburg, Johannesburg, SOUTH AFRICA; University of Nordland, Oslo, NORWAY; University of Pretoria, Pretoria, SOUTH AFRICA; University of Washington, Kirkland, WA; University of Wisconsin, Madison, WI; University of York Department of Computer Science, York, UNITED KINGDOM; U.S. Army Aviation & Missile Research, Development ARMDEC, Hunstville, AL; U.S. Army Electronic Proving Ground, Fort Huachuca, AZ; U.S. Army PEO Aviation, Huntsville, AL; U.S. Department of Defense Office of the CIO, Washington, D.C; UTC Aerospace Systems, Windsor Locks, CT; Van Haren Publishing, Zaltbommel, THE NETHERLANDS; Verocel, Inc., Westford, MA; ViaSat, Inc., Carlsbad, CA; VIP Apps Consulting Limited, Hertfordshire, UNITED KINGDOM; VisioTech Solutions Pvt. Ltd., Bahawalpur, PAKISTAN; WBEM Solutions, Inc., Burlington, MA; Web Age Solutions Inc., Toronto, CANADA; Wind River Systems, Alameda, CA; Wipro Technologies, Bangalore, INDIA; Wispa Systems—Parsons Brinckerhoff Africa, Johannesburg, SOUTH AFRICA; World Vision International, Monrovia, CA; XLENT IT Consulting, Sundsvall, SWEDEN; Yash Consulting Pvt. Ltd., Indore, INDIA; Yokohama National University, Yokohama, JAPAN; and Zodiac Data Systems, Alpharetta, GA.

The following members have withdrawn as parties to this venture: 3M Corp., St. Paul, MN; AGIP SPA, San Donato, ITALY; Amdahl Corp., Sunnyvale, CA; Applied Systems Engineering, Lancashire, UNITED KINGDOM; Argonne National Laboratory, Argonne, IL; Association for Interactive Media, Washington, DC; Association for Retail Technology Standards (ARTS), Reading, PA; Astec, Inc., Shinjuku-Ku, Tokyo, JAPAN; Attachmate Canada, Inc., Burnaby, CANADA; Australian Department of Defence, Canberra, AUSTRALIA; Barclay Bank PLC, Knutsford, Cheshire, ENGLAND; Barco Chromatics, Tuchker, GA; British Columbia Hydro and Power, Vancouver, CANADA; Bull K.K., Minato-Ku, JAPAN; Bull SA, Les Clayes Sous-Bois, FRANCE; Bundesamt Fur Informatik, Bern, SWITZERLAND; Candle Corp., Santa Monica, CA; Caterpillar, Inc., East Peoria, IL; CCL/ITRI, Chutung, Hsinchu, TAIWAN; CCTA, Norwich, ENGLAND; Centre Informatique du Plan et des, Tunis, TUNISIA; Centre Univ., Luxembourg, LUXEMBOURG; Chalmers University of Technology, Guteborg, SWEDEN; Chase Manhattan Bank, New York, NY; Citicorp International Communications, Reston, VA; Clinicomp International, San Diego, CA; Collogia Unternehmensberatung GmbH, Koln, GERMANY; Commission of European Communities, Brussels, BELGIUM; Communications Electronics Security, Cheltenham, UNITED KINGDOM; Computer Associates International, Inc., Islandia, NY; Computer Resource Management Ltd., Newmarket, UNITED KINGDOM; Computerware-Ecosystems Business Group, Campbell, CA; Cray Research, Inc., Eagan, MN; Credit Lyonnais, Saint Maurice, FRANCE; CSIRO, Division of Information Technology, Melbourne, AUSTRALIA; CSK Corp., Shinjuko-Ku, JAPAN; Dascom Incorporated, Santa Cruz, CA; Deloitte & Touche, Los Angeles, CA; Den Norske Bank, Bergen, NORWAY; Department of Defense-Fort Meade, Fort Meade, MD; Department of Social Security ITSA, Lancs, ENGLAND; Deutsche Bundespost Telekom, Darmstadt, GERMANY; Digital Equipment Corp., Nashua, NH; Digital Equipment Corporation Japan, Tokyo, JAPAN; Digital Equipment Corporation, Maynard, MA; DISA Center for Standards, Reston, VA; Distributed Systems Technology Centre (Pty) Ltd., St. Lucia, AUSTRALIA; Doxa Informatique, Versailles, FRANCE; Dun & Bradstreet Information Services, Bucks, ENGLAND; Dynamic Software AB-Dynasoft, Stockholm, SWEDEN; EC-Leasing, Moscow, RUSSIA; Elf Aquitaine, Paris, FRANCE; Ematek Informatik GmbH, Cologne, GERMANY; Enterprise Solutions Ltd., Westlake Village, CA; ESIGETEL, Avon, FRANCE; Etis, Brussels, BELGIUM; European Security Forum, London, UNITED KINGDOM; Financial Services Technology Consortium, Boston, MA; Finsiel S.P.A., Rome, ITALY; France Telecom, Paris, FRANCE; Fujitsu Limited, Kawasaki, JAPAN; Fujitsu Limited, Nakahara-Ku, JAPAN; Fujitsu Limited, Yokohama-Shi, Kanagawa, JAPAN; Global Knowledge Network, Belgium NV/SA, Brussels, BELGIUM; Gradient Technologies, Inc., Marlbourough, MA; Groupe Bull, Billerica, MA; Groupe Riche, Hurst, Reading, UNITED KINGDOM; Guide International, Duncan, CA; Hitachi Data Systems Corp., Santa Clara, CA; Hitachi, Ltd., Kanagawa-Ken, JAPAN; Hitachi, Ltd., Tokyo, JAPAN; Home Office Police Department, London, ENGLAND; Hughes Applied Information Systems, Landover, MD; Hummingbird Communications, Ltd., North York, Ontario, CANADA; Hungary Prime Minister's Office, Budapest, HUNGARY; Information Communication Institute of Singapore, Singapore, SINGAPORE; Innenministerium Nordrhein-Westfalen, Dusseldorf, GERMANY; INRIA, Le Chesnay, FRANCE; Insignia Solutions, High Wycombe, Bucks, UNITED KINGDOM; Institute for Defense Analyses, Alexandria, VA; Instruction Set, Inc., Framingham, MA; Intellisoft Corp., Acton, MA; Internal Revenue Service, Beckley, WV; International Business Machines Corporation, Armonk, NY; Isd Projektmanagement GmbH, Landshut, GERMANY; Isogon Corp., New York, NY; ISSC Inc., (Subsidiary of IBM), Austin, TX; J.P. Morgan & Co., Inc., New York, NY; Jet Propulsion Laboratory, Pasadena, CA; Juas, Tokyo, JAPAN; Jupiter Systems, San Leandro, CA; Just Systems Corp., Tokushima-Ken, JAPAN; Kadaster Igt, Apeldoorn, THE NETHERLANDS; Kaiser Foundation Health Plan Inc., Pasadena, CA; Kapsch Aktiengessellschaft, Vienna, AUSTRIA; Kredietbank N.V., Brussels, BELGIUM; Lasermoon Limited, Wickham, UNITED KINGDOM; Lawrence Livermore National Laboratory, Livermore, CA; LC Systems Engineering AG, Horn, SWITZERLAND; Legent Corp., Herndon, VA; Lexis-Nexis, Dayton, OH; Liberty Mutual Insurance Group, Portsmouth, NH; Los Alamos National Laboratory, Los Alamos, NM; Lucent Technologies, Holmdel, NJ; Market Vision, Derring, NH; Mastercard International Inc., Purchase, NY; MB&T Migration, Beratung & Training GmbH, Iserlohn-Letmathe, GERMANY; Mercury Communications Ltd., London, ENGLAND; Merrill Lynch and Co., Inc., New York, NY; Metro Link Incorporated, Fort Lauderdale, FL; Michigan Department of Transportation, Lansing, MI; Migros Genossenschafts Bund, Zurich, SWITZERLAND; Ministerie Van Financien, Apeldoorn, THE NETHERLANDS; Ministerie Van Verkeer, Delft, THE NETHERLANDS; Ministry of Defence Digits, Swindon, ENGLAND; Ministry of Defence, Den Haag, THE NETHERLANDS; Mitsubishi Corp., Chiyoda-Ku, JAPAN; Mitsubishi Electric Corp., Tokyo, JAPAN; Mitsui & Co., Ltd., Chiyoda-Ku, JAPAN; Moscow State Engineering Physics Institute (MEPHI), Moscow, RUSSIA; NASA/Goddard Space Flight Center, Greenbelt, MD; NASA/Langley Research Center, Hampton, VA; NASA/Ames Research Center, Moffett Field, CA; National Computerization Agency, Gyeonggi-Do, KOREA; National Health Service, Birmingham, UNITED KINGDOM; National Institutes of Health, Bethesda, MD; NATO CIS Agency, Brussels, BELGIUM; Naval Research Laboratory, Washington, DC; Naval Underwater Warfare Center Newport, RI; NCD Corporation, Beaverton, OR; ETH Zurich, Zurich, Switzerland; NCR Corp., Dayton, OH; NCR Corporation, West Columbia, SC; Netmanage Inc., Cupertino, CA; Netmanage Inc., San Diego, CA; Nihon Unisys, Ltd., Tokyo, JAPAN; Nippon Steel Corp., Kanagawa, JAPAN; Nippon Telegraph, Yokosuka-Shi, JAPAN; NORTEL Northern Telecom, Ltd., Alpharetta, GA; North Carolina Office of the State, Raleigh, NC; Novell, Inc., Provo, UT; Novell, Inc., San Jose, CA; NTT Data Communications Systems Corp., Tokyo, JAPAN; Oak Ridge National Laboratory, Oak Ridge, TN; Ohio State University, Columbus, OH; Oki Electric Industry Co., Ltd., Warabi-Shi, JAPAN; Open Environment Corp., Boston, MA; Open Environment Corporation-Europe, Twyford, UNITED KINGDOM; Open Horizon, Inc., South San Francisco, CA; Open System Solutions GmbH, Munchen, GERMANY; Openit Data AB, Taby, SWEDEN; Openvision, Inc., Cambridge, MA; Petrotechnical Open Software Corp., Houston, TX; Phillips Petroleum Co., Bartlesville, OK; Pohang University of Science & Technology, Pohang, KOREA; Post UND, Telekom, AUSTRIA; PRC Inc., McLean, VA; Prudential Insurance Company, Roseland, NJ; Research Environment for Global, Kawasaki, JAPAN; Rice University, Houston, TX; Royal Koninklijke PTT Nederland (KPN) N.V., Groningen, THE NETHERLANDS; SIA S.p.A., Milano, ITALY; Sandia National Laboratories, Albuquerque, NM; Sandia National Laboratories, Livermore, CA; Santix Software GmbH, Untershleiβheim, GERMANY; Saudi Distributed Systems Agency, Makkah, SAUDI ARABIA; SCSSI (Service Central de la Securite et des Systems d'Information), Moulineaux, FRANCE; Seaweed Systems Inc., Oakland, CA; Secom Information System Co., Ltd., Mitaka-Ski, Tokyo, JAPAN; Security Dynamics Technologies, Inc. including RSA Securities, Redwood City, CA; Sequel Technology Corporation, Bellevue, WA; Shell International, Rijswijk, THE NETHERLANDS; Shiman Associates Inc., Brookline, MA; Siemens Nixdorf Information Systems, Munich, GERMANY; Silicon Graphics Inc., Mountain View, CA; Softway Systems, Inc., San Francisco, CA; Stanford University, ITSS, Stanford, CA; Starquest Software, Inc., Berkeley, CA; Statskonsult, Oslo, NORWAY; SunSoft, Inc., Mountain View, CA; Sweden Post, Stockholm, SWEDEN; Sycomore S.A., Paris La Defense, FRANCE; T. Rowe Price Investment Technologies Inc., Baltimore, MD; Tandem Computers, Cupertino, CA; Technical University of Budapest, Budapest, HUNGARY; Telecom Finland Ltd., Helsinki, FINLAND; Telecom Networks Engineering, Tunis, TUNISIA; Telefonica I&D, Madrid, SPAIN; The Dairy Farm Group, Causeway Bay, HONG KONG; The Hong Kong Jockey Club, Happy Valley, HONG KONG; The Post Office, Chesterfield, UNITED KINGDOM; The Sakura Bank, Ltd., Chiyoda-Ku, JAPAN; The Santa Cruz Operation, Inc., Santa Cruz, CA; Tivoli Systems Inc., Austin, TX; Tivoli Systems Inc., Research Triangle Park, NC; Toshiba Corp., Tokyo, JAPAN; Toyota Motor Corp., Toyota, JAPAN; Triteal Corp., Carlsbad, CA; Unilever PLC, London, ENGLAND; Union Bank of Switzerland, Zurich, SWITZERLAND; University of Arizona, Tucson, AZ; University of Michigan, Ann Arbor, MI; University of Pennsylvania, Philadelphia, PA; University of Western Sydney, Kingswood, AUSTRALIA; UNIXPROS, Inc., Eatontown, NJ; Veritas Software Corp., Mountain View, CA; Visa International, San Francisco, CA; Visicom, San Diego, CA; Volvo Data AB, Goteborg, SWEDEN; Vople National Transportation Systems Center, Cambridge, MA; VRIJ UIT B.V., Hoofddorp, THE NETHERLANDS; Walker, Richer & Quinn, Inc., Seattle, WA; Wells Fargo Bank, San Francisco, CA; WM-DATA Communications AB, Stockholm, SWEDEN; X Inside, Denver, CO; and Zwister Leven, Amsterdam, THE NETHERLANDS.

The following parties have changed their names: IBM Corp. to IBM Corporation; Microsoft Corp. to Microsoft Corporation, Redmond, WA, and Oracle Corp. to Oracle Corporation, Redwood Shores, CA.

The following parties have changed their addresses: British Telecommunications Public Ltd., Co. (British Telecoms PLC.) to Edinburgh, UNITED KINGDOM; Center for Open Systems to Croydon, AUSTRALIA, and Object Management Group to Needham, MA.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on October 28, 1998. A notice was published in the Federal Register pursuant to Section 6(b) of the Act on January 29, 1999 (64 FR 4708).

Patricia A. Brink,
Director of Civil Enforcement, Antitrust Division.

[FR Doc. 2014-12530 Filed 5-29-14; 8:45 am]

BILLING CODE 4410-11-P